DEPARTMENT OF THE TREASURY

Office of Foreign Assets Control

31 CFR Part 560

Publication of Iranian Transactions and Sanctions Regulations Web General License O

AGENCY: Office of Foreign Assets Control, Treasury.

ACTION: Publication of web general license.

SUMMARY: The Department of the Treasury's Office of Foreign Assets Control (OFAC) is publishing a general license (GL) issued pursuant to the Iranian Transactions and Sanctions Regulations and Executive Order 13846, GL O, which was previously made available on OFAC's website.

DATES: GL O was issued on March 2, 2023. See SUPPLEMENTARY INFORMATION for additional relevant dates.

FOR FURTHER INFORMATION CONTACT: OFAC: Assistant Director for Licensing, 202-622-2480; Assistant Director for Regulatory Affairs, 202-622-4855; or Assistant Director for Sanctions Compliance & Evaluation, 202-622-2490.

SUPPLEMENTARY INFORMATION:

Electronic Availability

This document and additional information concerning OFAC are available on OFAC's website: www.treas.gov/ofac.

Background

On March 2, 2023, OFAC issued GL O to authorize certain transactions otherwise prohibited by the Iranian Transactions and Sanctions Regulations, 31 CFR part 560, or Executive Order 13846 of August 6, 2018, “Reimposing Certain Sanctions With Respect to Iran” (83 FR 38939). This GL was made available on OFAC's website (www.treas.gov/ofac) when it was issued. GL O has an expiration date of June 30, 2023. The text of this GL is provided below.

OFFICE OF FOREIGN ASSETS CONTROL

Executive Order 13846 of August 6, 2018

Reimposing Certain Sanctions With Respect to Iran

Iranian Transactions and Sanctions Regulations

31 CFR Part 560

GENERAL LICENSE O

Authorizing Wind-Down and Limited Safety and Environmental Transactions Involving Certain Vessels

(a) Except as provided in paragraph (c) of this general license, the following transactions are authorized through 12:01 a.m. eastern daylight time, June 30, 2023, provided that any payment to a blocked person, including any blocked entity described in paragraph (b) of this general license, must be made into a blocked account and reported to the Office of Foreign Assets Control consistent with § 501.603 of the Reporting, Procedures and Penalties Regulations, 31 CFR part 501:

(1) All transactions prohibited by section 5 of Executive Order (E.O.) 13846 that are ordinarily incident and necessary to the wind down of any transaction involving any vessel in which one or more entities described in paragraph (b) of this general license have an interest, including the vessels described in the Annex to this general license (the “blocked vessels”); and

(2) All transactions prohibited by the Iranian Transactions and Sanctions Regulations, 31 CFR part 560 (ITSR), that are ordinarily incident and necessary to any of the following activities involving the blocked vessels or entities described in paragraph (b) of this general license:

(i) The safe docking and anchoring of any of the blocked vessels in port;

(ii) The preservation of the health or safety of the crew of any of the blocked vessels; and

(iii) Emergency repairs of any of the blocked vessels or environmental mitigation or protection activities relating to any of the blocked vessels.

(b) The authorizations in paragraph (a) of this general license apply to the following entities:

(1) Golden Lotus Oil Gas and Real Estate Joint Stock Company;

(2) Swedish Management CO SA;

(3) Shanghai Xuanrun Shipping Company Limited;

(4) Global Marine Ship Management Co., Ltd.; or

(5) Any entity in which one or more of the above entities own, directly or indirectly, individually or in the aggregate, a 50 percent or greater interest.

(c) This general license does not authorize:

(1) The offloading of any Iranian-origin petroleum, petroleum products, or petrochemical products;

(2) The entry into any new commercial contracts involving the blocked vessels or the entities described in paragraph (b) of this general license, except as authorized by paragraph (a); or

(3) Any transactions otherwise prohibited by section 5 of E.O. 13846 or the ITSR, including transactions involving any person blocked pursuant to section 5 of E.O. 13846 or the ITSR other than the blocked entities described in paragraph (b) of this general license, unless separately authorized.

Dated: March 2, 2023.
Bradley T. Smith,
Deputy Director, Office of Foreign Assets Control.

Annex

Vessels in which one or more of the entities described in paragraph (b) of Iran General License O have an interest:

(a) Vessels in which Golden Lotus Oil Gas and Real Estate Joint Stock Company has an interest:

(1) Dolphin, IMO 9052331

(2) Lauren, IMO 9249685

(3) Golden Bridge, IMO 9218301

(4) Golden Phoenix, IMO 9224790

(5) Amias, IMO 9342786

(6) Jamaica, IMO 9230098

(7) Golden Light 09, IMO 9445057

(8) Gas Cathar, IMO 9250505

(b) Vessels in which Swedish Management CO SA has an interest:

(1) Rising Eagle, IMO 9073672

(2) Rising Falcon, IMO 9105396

(3) Rising Harrier, IMO 9122291

(4) Cattle Force, IMO 9175901

(5) Hercules, IMO 9558517

(6) Gladiator, 7621011

(c) Vessels in which Shanghai Xuanrun Shipping Company Limited has an interest:

(1) Yong Xiang 29, IMO 8744107

(2) Forever Rich, IMO 9203928

(3) Yong Xin, IMO 9203930

(4) Xuan Ning, IMO 9349095

(5) Liang Sheng, IMO 9526693

(6) Full Star, 9773301

Andrea M. Gacki,
Director, Office of Foreign Assets Control.

[FR Doc. 2023-10700 Filed 5-18-23; 8:45 am]

BILLING CODE P